DEPARTMENT OF ENERGY

Federal Energy Regulatory Commission

[Docket No. RP00-455-000]

Honeoye Storage Corporation; Notice of Proposed Changes in FERC Gas Tariff

August 16, 2000.

Take notice that on August 10, 2000, Honeoye Storage Corporation (Honeoye) tendered for filing the following as part of its FERC Gas Tariff, Second Revised Volume 1, the following revised tariff sheets, to be effective September 15, 2000.

First Revised Sheet No. 22

Original Sheet 22A

Original Sheet 22B

Honeoye states that the purpose of the filing is to substitute certain tariff sheets which make changes to the General Terms and Conditions of the Gas Tariff. Honeoye proposes to grant to its customers the right to make title transfers of gas which is held in the Honeoye gas field to other customers. Honeoye also proposes to set forth terms and conditions that would apply: (i) To customer-owned top gas in the Honeoye Gas Field at contract termination, and (ii) to customer-owned cushion gas in the Honeoye Gas Field at contract termination. Honeoye states that there will be no change in existing storage rates and revenues under the proposed revisions. Honeoye also states that these changes will not apply to Providence Gas Company, a former customer whose contract terminated on March 31, 2000.

Honeoye requests waiver of the Commission's Regulations to the extent necessary to permit the tariff sheets to become effective September 15, 2000.

Honeoye states that copies of the filing are being mailed to Honeoye's jurisdictional customers and interested state regulatory agencies.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-21294 Filed 8-21-00; 8:45 am]

BILLING CODE 6717-01-M